DEPARTMENT OF LABOR

Employment and Training Administration

Proposed Information Collection Request Submitted for Public Comment and Recommendations; Extension of the Unemployment Insurance (UI) Title XII Advances and Voluntary Repayment Process

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration, Office of Workforce Security, is soliciting comments concerning the proposed extension of the process for requesting advances from the Federal Unemployment Account (FUA) and repayment of such advances under Title XII of the Social Security Act (SSA). Technically, there is no request for information. There is, however, a paperwork burden on states because they must prepare and transmit formal requests for advances and transfers to repay those advances. A copy of the proposed procedure can be obtained by contacting the office listed below in the addressee section of this notice or at http://www.doleta.gov/Performance/guidance/OMBControlNumber.cfm.

DATES: Written comments must be submitted on or before May 15, 2006.

ADDRESSES: James E. Herbert, U.S. Department of Labor, Employment and Training Administration, Room S 4231, 200 Constitution Ave, NW., Washington, DC 20210; Phone: 202-693-2926 (this is not a toll-free number); Fax: 202-693-2874; e-mail: Herbert.James@dol.gov.

SUPPLEMENTARY INFORMATION:

I. Background

Title XII section 1201 of the SSA provides for advances to states from the FUA. The law further sets out specific requirements to be met by a state requesting an advance:

○ The Governor must apply for the advance;

○ The application must cover a three month period and the Secretary of Labor must be furnished with estimates of the amounts needed in each month of the three month period;

○ The application must be made on such forms and shall contain such information and data (fiscal and otherwise) concerning the operation and administration of the state unemployment compensation law as the Secretary of Labor deems necessary or relevant to the performance of his or her duties under this title;

○ The amount required by any state for the payment of compensation in any month shall be determined with due allowance for contingencies and taking into account all other amounts that will be available in the state's unemployment fund for the payment of compensation in such month;

○ The term “compensation” means cash benefits payable to individuals with respect to their unemployment exclusive of expenses of administration.

Section 1202(a) of the SSA provides that the Governor of any state may at any time request that funds be transferred from the account of such state to the FUA in repayment of part or all of the balance of advances made to such state under section 1201. These applications and repayments may be requested by an individual designated for that authority in writing by the Governor. The DOL proposes to extend this procedure through June, 2009. The DOL also proposes to allow states the option of submitting electronic requests for advances or continuing the current practice of submitting letters.

II. Review Focus

The Department of Labor is particularly interested in comments which:

○ Evaluate whether the proposed extension of the current procedure is necessary for the proper performance of the functions of the agency, including whether the information will have practical utility;

○ Evaluate the accuracy of the agency's estimate of the burden of the proposed extension of the current procedure, including the validity of the methodology and assumptions used;

○ Enhance the quality, utility, and clarity of the procedure; and

○ Minimize the burden of the procedure on those who are to respond, including the use of appropriate automated, electronic, mechanical, or other technological collection techniques or other forms of information technology, e.g., permitting electronic submission of responses.

III. Current Actions

Type of Review: This action is requested to maintain the continuity of current procedures which have succeeded in the orderly application and repayment operations at both the state and Federal levels.

Agency: Employment and Training Administration, Department of Labor.

Title: Extension of the Unemployment Insurance (UI) Title XII Advances and Voluntary Repayment Process.

OMB Number: 1205-0199.

Affected Public: State governments.

Total Respondents: 50 states, Washington, DC, the Virgin Islands, and Puerto Rico are covered by this process.

Frequency: As needed, based on a state's discretion.

Total Responses: The DOL projects 7 states will borrow between 2006 and 2009 and that borrowing states will average 4 requests for advances and 4 requests for voluntary repayments each year. This results in 56 total responses per year.

Average Time Per Response: 1 hour.

Estimated Total Burden Hours: 56 per year.

Estimated Total Burden Cost: None.

Comments submitted in response to this notice will be summarized and/or included in the request for Office of Management and Budget approval of the information collection request; they will also become a matter of public record.

Dated: March 3, 2006.
Cheryl Atkinson,
Administrator, Office of Workforce Security.

[FR Doc. E6-3840 Filed 3-15-06; 8:45 am]

BILLING CODE 4510-30-P